DEPARTMENT OF AGRICULTURE

Food and Nutrition Service

Agency Information Collection Activities: Proposed Collection; Comment Request—The Special Supplemental Nutrition Program for Women, Infants and Children (WIC) WIC Breastfeeding Award of Excellence

AGENCY: Food and Nutrition Service (FNS), USDA.

ACTION: Notice.

SUMMARY: In accordance with the Paperwork Reduction Act of 1995, this notice invites the general public and other public agencies to comment on this proposed information collection. This collection is a revision of a currently approved collection for awarding local agencies for excellence in WIC breastfeeding services and support. Section 231 of the Healthy, Hunger-Free Kids Act of 2010, Public Law 111-296, requires that the Department of Agriculture (USDA) establish a program to recognize WIC local agencies and clinics that demonstrate exemplary breastfeeding promotion and support activities.

DATES: Written comments must be received on or before April 6, 2020.

ADDRESSES: Comments may be sent to: Sarah Widor, Director, Supplemental Food Programs Division, Food and Nutrition Service, U.S. Department of Agriculture, Braddock Metro Center, 1320 Braddock Place, Alexandria, VA 22314. Comments will also be accepted through the Federal eRulemaking Portal. Go to http://www.regulations.gov, and follow the online instructions for submitting comments electronically. Please be advised that the substance of the comments and the identity of the individuals or entities submitting the comments will be subject to public disclosure. All comments will be made available publicly on the internet at http://www.regulations.gov. All responses to this notice will be summarized and included in the request for Office of Management and Budget approval.

FOR FURTHER INFORMATION CONTACT: Requests for additional information or copies of this information collection should be directed to Anne Bartholomew, Chief, Nutrition Services Branch, Supplemental Food Programs Division, FNS, USDA, Braddock Metro Center, 1320 Braddock Place, Alexandria, VA 22314. Telephone: (703) 305-2746.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Special Supplemental Nutrition Program for Women, Infants and Children (WIC) WIC Breastfeeding Award of Excellence (formerly the Loving Support Award of Excellence).

Form Number: Not applicable.

OMB Number: 0584-0591.

Expiration Date: 09/30/2020.

Type of Request: Revision of a Currently Approved Collection.

Abstract: This information collection is mandated by section 231 of the Healthy, Hunger-Free Kids Act of 2010 (HHFKA) (Pub. L. 111-296). Section 231 of the HHFKA, requires USDA to implement a program to recognize exemplary breastfeeding support practices at WIC local agencies and clinics. The WIC Program provides breastfeeding promotion and support for pregnant and postpartum mothers as a part of its mission to improve the health of the approximately 6 million Americans it serves each month. Breastfeeding is a priority in WIC and WIC mothers are strongly encouraged to breastfeed their infants unless medically contraindicated.

In recognizing exemplary local agencies and clinics, the HHFKA requires that the Secretary consider the following criteria: (1) Performance measurements of breastfeeding; (2) the effectiveness of a peer counselor program; (3) the extent to which the agency or clinic has partnered with other entities to build a supportive breastfeeding environment for women participating in WIC; and (4) other criteria the Secretary considers appropriate after consultation with State and local program agencies. The information will be submitted voluntarily by WIC local agencies who will be applying for an award. FNS will use the information collected to evaluate the components of existing breastfeeding programs and support in WIC local agencies and make decisions about awards. This program is expected to provide models and motivate local agencies and clinics to strengthen their breastfeeding promotion and support activities. To streamline the submission of the application components, FNS plans to explore the possibility of conducting the application and submission process via an online platform. The total estimated time to complete the application is not expected to change.

The award program for breastfeeding excellence was originally titled the Loving Support Award of Excellence, consistent with the former WIC breastfeeding campaign, Loving Support Makes Breastfeeding Work. In 2018, the WIC breastfeeding campaign was updated and rebranded as WIC Breastfeeding Support. Therefore, the name of the award program will be rebranded as the WIC Breastfeeding Award of Excellence.

Affected Public: State, Local, and Tribal Government. The respondents include WIC local and state agencies in the states and territories.

Estimated Number of Respondents: The total estimated number of participants is 269: 180 local WIC agencies and 89 State WIC agencies.

WIC Peer Counseling is an FNS initiative that equips WIC programs with an implementation and management model—the ” WIC Breastfeeding Model for Peer Counseling”—that serves as a framework for designing, building, and sustaining peer counseling programs; a requirement for award eligibility. According to program data, the number of local agencies operating a WIC program is 1,850. The number of local agencies submitting applications has increased annually; over 40% of eligible local agencies participated in the past five years. In Fiscal Year (FY) 2015, 77 eligible local agencies applied for an award; in FY 2016, 117 eligible local agencies applied for an award; in FY 2017, 123 eligible local agencies applied for an award; in FY 2018, 132 eligible local agencies applied for an award; and in FY 2019, 137 eligible local agencies applied for an award. Therefore, unlike the previous information collection request, the estimated number of respondents for local agency applications will not assume 30% of all eligible local WIC agencies will apply for an award annually. To better reflect the number of respondents for subsequent years, FNS estimates the annual submitted applications will continue to slowly increase, ranging from 140-180 applications submitted annually. The estimated number of respondents for the State agency application verification is derived from the total number of State WIC agencies.

Estimated Number of Responses per Respondent: The estimated number of responses per respondent for the WIC local agency is one, as each eligible WIC local agency will submit one application. The estimated number of responses per respondent for the WIC State agency is 2.0, as each WIC State agency will evaluate approximately 2.0 applications annually. These estimates were derived by dividing the total number of responses for the WIC Local Agency Application or the State Agency Evaluation by the respective number of respondents. Overall, the estimated number of responses per respondent across the entire collection is 1.3, which is derived by dividing the total number of responses (358) by the total estimated number of respondents (269).

Estimated Total Annual Responses: 358.

Estimated Time per Response: FNS estimates the WIC local agency application response is 2.5 hours, and the WIC State agency response is 1.5 hours. Overall, the average estimated time for all of the participants is 2 hours. The estimated average number of hours per response was derived by dividing the number of estimated total hours (717), by the number of total annual responses by all respondents (358). The time for the WIC local agency is an estimated time for the agency to voluntarily review the instructions, fill out the “WIC Breastfeeding Award of Excellence” application, and attach supportive documentation. The time for the State WIC agency is an estimated time for the agency to review the instructions, evaluate the components of the local WIC agencies applications, and make a recommendation for an award.

Estimated Total Annual Burden on Respondents: 717.0 hours.

See the table below for estimated total annual burden for each type of respondent.

Respondent | Estimated number respondent | Responses annually per respondent | Total annual responses | Estimated average number of hours per response * | Estimated total hours
Reporting Burden:
WIC Local Agency Application | 180.0 | 1.0 | 180.0 | 2.5 | 450.0
WIC State Agency Evaluation | 89.0 | 2.0 | 178.0 | 1.5 | 267.0
Total Reporting Burden | 269.0 | 1.3 | 358.0 | 2.0 | 717.0
* Estimated average # of hours per response includes .5 hours for reviewing instructions

Dated: January 29, 2020.
Pamilyn Miller,
Administrator, Food and Nutrition Service.

[FR Doc. 2020-02246 Filed 2-4-20; 8:45 am]

BILLING CODE 3410-30-P